DEPARTMENT OF HEALTH AND HUMAN SERVICES

National Institutes of Health

National Heart, Lung, and Blood Institute; Notice of Closed meetings.

Pursuant to section 10(d) of the Federal Advisory Committee Act, as amended (5 U.S.C. Appendix 2), notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Heart, Lung, and Blood Institute Special Emphasis Panel.

Date: June 14, 2000.

Time: 8:30 am to 5 pm.

Agenda: To review and evaluate grant applications.

Place: Holiday Inn Chevy Chase, 5520 Wisconsin Avenue, Chevy Chase, MD 20815.

Contact Person: Louise P. Corman, PhD, Scientific Review Administrator, Review Branch, NIH, NHLBI, Rockledge Building II, 6701 Rockledge Drive, Suite 7180, Bethesda, MD 20892-7924, (301) 435-0270.

Name of Committee: National Heart, Lung, and Blood Institute Special Emphasis Panel, Clinical Trials Special Emphasis Panel.

Date: June 27, 2000.

Time: 8 am to 1 pm.

Agenda: To review and evaluate grant applications.

Place: Hyatt Regency Bethesda, One Bethesda Metro Center, Bethesda, MD 20814.

Contact Person: Joyce A. Hunter, National Heart, Lung, and Blood Inst., NIH, Rockledge Center, II, 6701 Rockledge Drive, Suite 7194, Bethesda, MD 20892-7924, 301/435-0288.

Name of Committee: National Heart, Lung, and Blood Institute Special Emphasis Panel.

Date: July 13, 2000.

Time: 9 am to 3:30 pm.

Agenda: To review and evaluate grant applications.

Place: Hilton National Airport Hotel, 2399 Jefferson Davis Highway, Arlington, VA 22202.

Contact Person: Louise P. Corman, PhD, Scientific Review Administrator, Review Branch, NIH, NHLBI, Rockledge Building II, 6701 Rockledge Drive, Suite 7180, Bethesda, MD 20892-7924, (301) 435-0270.

Name of Committee: National Heart, Lung, and Blood Institute Special Emphasis Panel.

Date: July 14, 2000.

Time: 9 am to 12:30 pm.

Agenda: To review and evaluate grant applications.

Place: Washington National Airport Hilton, 2399 Jefferson Davis Highway, Arlington, VA 22202.

Contact Person: Louise P. Corman, PhD, Scientific Review, Administrator, Review Branch, NIH, NHLBI, Rockledge Building II, 6701 Rockledge Drive, Suite 7180, Bethesda, MD 20892-7924, (301) 435-0270.

(Catalogue of Federal Domestic Assistance Program Nos. 93.233, National Center for Sleep Disorders Research; 93.837, Heart and Vascular Diseases Research; 93.838, Lung Diseases Research; 93.839, Blood Diseases and Resources Research, National Institutes of Health, HHS)
Dated: May 10, 2000.
LaVerne Y. Stringfield,
Director, Office of Fedeal Advisory Committee Policy.

[FR Doc. 00-12543 Filed 5-17-00; 8:45 am]

BILLING CODE 4140-01-M